DEPARTMENT OF STATE

[Public Notice 10543]

60-Day Notice of Proposed Information Collection: Request To Change End User, End Use and/or Destination of Hardware

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to November 19, 2018.

ADDRESSES: You may submit comments by any of the following methods:

• Web: Persons with access to the internet may comment on this notice by going to www.Regulations.gov. You can search for the document by entering “Docket Number: DOS-2018-0041” in the Search field. Then click the “Comment Now” button and complete the comment form.

• Email: DDTCPublicComments@state.gov.

• Regular Mail: Send written comments to: Directorate of Defense Trade Controls, Attn: Andrea Battista, 2401 E St. NW, Suite H-1205, Washington, DC 20522-0112.

You must include the subject (PRA 60 Day Comment), information collection title (Request to Change End User, End Use, and/or Destination Hardware), and OMB control number (1405-0173 in any correspondence.

FOR FURTHER INFORMATION CONTACT: Direct requests for additional information regarding this collection to Andrea Battista, who may be reached at BattistaAL@state.gov or 202-663-3136.

SUPPLEMENTARY INFORMATION:

• Title of Information Collection: Request to Change End User, End Use and/or Destination of Hardware.

• OMB Control Number: 1405-0173.

• Type of Request: Extension of a Currently Approved Collection.

• Originating Office: Directorate of Defense Trade Controls (DDTC).

• Form Number: DS-6004.

• Respondents: Business or Nonprofit Organizations.

• Estimated Number of Respondents: 500.

• Estimated Number of Responses: 500.

• Average Time per Response: 1 hour.

• Total Estimated Burden Time: 500 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Request to Change End-User, End-Use and/or Destination of Hardware information collection is used to request DDTC approval prior to any sale, transfer, transshipment, or disposal, whether permanent or temporary, of classified or unclassified defense articles to any end-user, end-use or destination other than as stated on a license or other approval.

Methodology

Currently, there is no option of electronic submission of this information. Submissions are made via hardcopy documentation. Applicants are referred to ITAR § 123.9 for guidance on information to submit regarding the request to change end-user, end-use and/or destination of hardware. Upon implementation of DDTC's new case management system, The Defense Export Control and Compliance System (DECCS), a DS-6004 may be submitted electronically.

Anthony M. Dearth,
Chief of Staff, Directorate of Defense Trade Controls, U.S. Department of State.

[FR Doc. 2018-20209 Filed 9-17-18; 8:45 am]

BILLING CODE 4710-25-P